DEPARTMENT OF TRANSPORTATION

Federal Transit Administration

Preparation of Environmental Impact Statement on North Shore Transit Improvements Between Revere and Salem, MA

AGENCY: Federal Transit Administration (FTA), U.S. Department of Transportation (DOT).

ACTION: Notice of intent to prepare an environmental impact statement.

SUMMARY: The Federal Transit Administration (FTA) is issuing this notice to advise agencies and the public that, in accordance with the National Environmental Policy Act (NEPA), FTA and the Massachusetts Bay Transportation Authority (MBTA), will prepare an environmental impact statement (EIS) to evaluate transit improvements, including a potential rapid transit service extension, in the North Shore Corridor from Revere to Salem, Massachusetts.

DATES: One public scoping meeting in the City of Lynn will be held in April, 2002. Details as to the specific location, date, and time of the public scoping meeting will be advertised in local newspapers and other media. An interagency scoping meeting will be held on March 27, 2002 in the Volpe National Transportation Systems Center. See ADDRESSES below. Written comments on the scope of the EIS, including the alternatives to be considered and the impacts to be studied, may be sent to Stephen M. Woelfel, Project Manager, MBTA, by April 19, 2002. See ADDRESSES below.

ADDRESSES: Written comments on the project scope should be sent to Stephen Woelfel, Project Manager, Planning Department, Massachusetts Bay Transportation Authority, Massachusetts Transportation Building, 10 Park Plaza, Boston, MA 02116. Telephone: (617) 222-5237; fax: (617) 222-6181. The interagency scoping meeting will be held on March 27, 2002 at 10 a.m. in the Volpe National Transportation Systems Center, Kendall Square, 55 Broadway, Cambridge, MA 02142. All scoping meetings will be held in wheelchair-accessible locations.

FOR FURTHER INFORMATION CONTACT: Mr. Peter S. Butler, Federal Transit Administration, (617) 494-2729.

SUPPLEMENTARY INFORMATION:

I. Scoping

FTA and MBTA will establish the scope of the EIS for the North Shore Corridor after consulting with Federal, State, and local resource and regulatory agencies through meetings and correspondence, and after hearing from the general public. Interested individuals, organizations, and agencies are invited to participate in defining the alternatives to be evaluated and related issues of concern. Written comments on the alternatives and potential impacts to be considered should be sent to Stephen Woelfel at the MBTA.

II. Description of Corridor and Transportation Needs

The existing transportation system in the Boston-Salem Corridor consists of a network of limited-access highways, arterials, and local streets as well as various transit services provided by the MBTA.

Roadway Network

There are no major highways that service two primary business communities in this corridor, Lynn and Salem. The local roadways provide poor levels of service. Prior planning efforts to address these accessibility issues have included possible highway connections to the cities of Lynn and Salem. This work has failed to produce viable highway alternatives because of community, environmental, and financial constraints. Limited access to these cities has impacted the ability of residents to reach employment opportunities in Boston, and it has prevented these business centers from reaching their full potential.

Transit Network

The MBTA is the primary provider of mass transit service in this area. This Corridor is serviced by commuter rail along the Eastern Route Main Line that extends from Boston to Newburyport and Rockport. Rapid transit service is provided on the Blue Line between Bowdoin Station in downtown Boston and Wonderland Station in Revere (Blue Line terminus). The MBTA also operates local and express bus routes in this Corridor.

Over the past several years, the MBTA has made a substantial investment in the rehabilitation of the commuter and Blue Line systems. Despite these improvements, public transit has not sufficiently improved mobility within this Corridor, and it holds limited potential to fully address this issue. Further public transportation improvements have been considered through several different planning efforts including the MBTA's current Major Investment Study (MIS). The MIS has been developed around the findings of studies that were completed in the 1990's including the North Shore Transportation Study and the Wonderland Connector Feasibility Study. In the MIS process, a steering committee of municipalities and interest groups has reaffirmed the need, which was identified in these previous studies, for greater access to Boston and the employment centers on the North Shore. Particular attention has focused on the inadequacy of existing services to meet the demand for access to the cities of Lynn and Salem, which are important destination centers within the Corridor. In the case of commuter rail, the current system cannot support higher frequency service, and various bus options may not overcome congestion on the Corridor's roadway network. The MBTA's experience with express bus service in the Corridor suggests that commuters are looking for more frequent and quicker service. Consequently, these cities have identified rapid transit investment as the way to address their transportation limitations and to promote greater economic development opportunities.

The rapid transit investment that has been favored is an extension of Blue Line service from the existing terminus in Revere. It is recognized that the possible rapid transit routes for a Blue Line extension would result in significant environmental impacts, and as such, would require the preparation of an EIS. The EIS will focus on extending rapid transit into the Corridor between Boston and Salem. Accordingly, the study area will be comprised of the following communities: The City of Boston and nine other cities/town including Chelsea, Lynn, Marblehead, Nahant, Revere, Salem, Saugus, Swampscott, and Winthrop.

The MIS, which is currently expected to be completed in June of 2002, will continue to address issues of a regional nature that encompass the entire 32 community study area and all modes of transit. The EIS process is an integral part of the MIS process because it will provide additional detail regarding the Blue Line extension options, which received high ratings and support in the initial MIS screening phases.

III. Alternatives

A preferred alternative has not been selected at this point. The public comment process will provide input into the selection and a preferred alternative will be identified in the Final EIS.

For consideration in the Draft EIS, the FTA and the MBTA propose that the following five alternatives be evaluated:

Alternative 1: No-Action

This Alternative consists of no change to existing facilities in the North Shore Corridor. It serves as the NEPA baseline against which the transportation, environmental, and community impacts of the other alternatives are compared. Existing transportation facilities consist of the MBTA Blue Line and various local and express bus routes. Additionally, the Rockport and Newburyport Commuter Rail Lines provide commuter-oriented service to seventeen stations in the North Shore. Principle highway facilities in the study area include Interstate 95, U.S. Route 1, State Route 128, and State Route 1A. The No Action Alternative further consists of the transportation network contained in the Regional Transportation Plan for the year 2010 in the absence of any other transportation improvements in the study corridor.

Alternative 2: Transportation System Management

This alternative consists of all reasonable cost-effective transit service improvements not requiring major new construction. This alternative includes improvements such as reduced commuter rail headways in off-peak hours, extended service hours and reduced headways for express and local bus service, and other low-cost traffic and transit system upgrades on available streets and highways.

Alternative 3: Blue Line extension to Salem via the Eastern Route Main Line

This alternative involves the extension of the Blue Line from the City of Revere to the City of Salem along the Eastern Route Main Line with a shared use for MBTA commuter rail service.

Alternative 4: Blue Line Extension to Salem via the Narrow Gauge and Eastern Route Main Line Alignment

This Alternative involves the extension of the Blue Line from the City of Revere to the City of Salem utilizing the Boston, Revere Beach & Lynn Narrow Gauge Alignment and the Eastern Route Main Line with a shared use for MBTA commuter rail service;

Alternative 5: Blue Line and Commuter Rail Intermodal Facility

In lieu of a Blue Line extension north to Salem, this alternative involves the construction of a new intermodal facility that would provide a passenger connection between the Blue Line and commuter rail service in the vicinity of the existing Blue Line terminus at Wonderland Station in the City of Revere.

All of the alternatives listed above, as well as other alternatives suggested during scoping, will be considered during the development of the draft EIS. Prior to the completion of the draft EIS, it is expected that a screening process will consider each alternative's potential benefits, costs, and impacts. The EIS will also consider any additional reasonable alternatives identified during scoping that provide similar transportation benefits while reducing or avoiding adverse impacts.

IV. Public Involvement

A comprehensive public involvement program has been developed. The program includes: Outreach to local and county officials and community and civic groups; a public scoping process to define the issues of concern among all parties interested in the project; a public hearing on release of the draft EIS; and development and distribution of project newsletters.

V. Probable Effects and Potential Impacts for Analysis

The FTA and the MBTA will evaluate all environmental, social, and economic impacts of the alternatives analyzed in the EIS. The impact areas to be addressed include: noise and vibration; land use; visual/aesthetic values; ecosystems; cultural and historical resources; water quality, floodplains, and drainage; air quality; traffic and parking; hazardous materials; utilities; energy use and conservation; public safety and security; and community and economic impacts. The EIS will evaluate potential environmental justice issues as well as secondary, cumulative, and construction-related impacts. The need for right-of-way acquisitions and relocations will also be evaluated. Alternative alignments, designs, station locations, and other measures to avoid, minimize, and mitigate adverse impacts will be developed and evaluated.

VI. FTA Procedures

In accordance with FTA policy, all Federal laws, regulations, and executive orders affecting project development, including but not limited to the regulations of the Council on Environmental Quality and FTA implementing NEPA (40 CFR parts 1500-1508, and 23 CFR part 771), the 1990 Clean Air Act Amendments, section 404 of the Clean Water Act, Executive Order 12898 regarding environmental justice, the National Historic Preservation Act, the Endangered Species Act, and section 4(f) of the DOT Act, will be addressed to the maximum extent practicable during the NEPA process. In addition, the MBTA seeks § 5309 New Starts funding for the project and will therefore be subject to the FTA New Starts regulation (49 CFR part 611) which was published in the Federal Register on December 7, 2000 (65 FR 76864) and became effective on April 6, 2001. This New Starts regulation requires the submission of certain specified information to FTA to support an MBTA request to initiate preliminary engineering, which is normally done in conjunction with the NEPA process.

Issued on: March 4, 2002.
Richard H. Doyle,
FTA Regional Administrator.

[FR Doc. 02-5637 Filed 3-7-02; 8:45 am]

BILLING CODE 4910-57-P